NUCLEAR REGULATORY COMMISSION

[Docket No. 50-440; NRC-2018-0287]

FirstEnergy Nuclear Operating Company; Perry Nuclear Power Plant, Unit No. 1

AGENCY: Nuclear Regulatory Commission.

ACTION: Environmental assessment and finding of no significant impact; issuance.

SUMMARY: The U.S. Nuclear Regulatory Commission (NRC) is considering issuance of an amendment to Facility Operating License NPF-58 held by FirstEnergy Nuclear Operating Company (FENOC, the licensee) for the operation of Perry Nuclear Power Plant (PNPP), Unit No. 1. The proposed license amendment would revise the emergency response organization (ERO) positions identified in the emergency plan for PNPP. The NRC is issuing an environmental assessment (EA) and finding of no significant impact (FONSI) associated with the proposed license amendment.

DATES: The EA and FONSI referenced in this document are available on July 16, 2019.

ADDRESSES: Please refer to Docket ID NRC-2018-0287 when contacting the NRC about the availability of information regarding this document. You may obtain publicly-available information related to this document using any of the following methods:

• Federal Rulemaking Website: Go to https://www.regulations.gov/ and search for Docket ID NRC-2018-0287. Address questions about docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The Perry Nuclear Power Plant Emergency Plan Amendment Request is available in ADAMS under Accession No. ML18332A500.

• NRC's PDR: You may examine and purchase copies of public documents at the NRC's PDR, Room O1-F21, One White Flint North, 11555 Rockville Pike, Rockville, Maryland 20852.

FOR FURTHER INFORMATION CONTACT: Kimberly Green, Office of Nuclear Reactor Regulation, U.S. Nuclear Regulatory Commission, Washington DC 20555-0001; telephone: 301-415-1627, email: Kimberly.Green@nrc.gov.

SUPPLEMENTARY INFORMATION:

I. Introduction

The NRC is considering issuance of an amendment to Facility Operating License No. NPF-58 held by FENOC for operation of the PNPP, located in Lake County, Ohio. In accordance with section 51.21 of title 10 of the Code of Federal Regulations (10 CFR), the NRC prepared the following EA that analyzes the environmental impacts of the proposed licensing action. Based on the results of this EA, and in accordance with 10 CFR 51.31(a), the NRC has determined not to prepare an environmental impact statement for the proposed licensing action and is issuing a FONSI.

II. Environmental Assessment

Description of the Proposed Action

The proposed action would revise the ERO positions identified in the PNPP Emergency Plan to: Transfer rescue and first aid duties from two on-shift security force members to on-shift fire brigade personnel and eliminate two on-shift minimum staff positions that are performed 24 hours a day; reduce the number of radiation monitoring teams (RMTs) from three to two and transfer augmentation staff responsibility for onsite (out-of-plant) surveys from RMTs to radiation protection technicians; add definitions for offsite surveys and onsite (out-of-plant) surveys; and make other administrative changes needed to implement the noted changes above.

The proposed action is in accordance with the licensee's application dated November 28, 2018 (ADAMS Accession No. ML18332A500).

Need for the Proposed Action

Nuclear power plant owners, Federal agencies, and State and local officials work together to create a system for emergency preparedness and response that will serve the public in the unlikely event of an emergency. An effective emergency preparedness program decreases the likelihood of an initiating event at a nuclear power reactor proceeding to a severe accident. Emergency preparedness cannot affect the probability of the initiating event, but a high level of emergency preparedness increases the probability of accident mitigation if the initiating event proceeds beyond the need for initial operator actions.

Each licensee is required to establish an emergency plan to be implemented in the event of an accident, in accordance with 10 CFR 50.47 and appendix E to 10 CFR part 50. The emergency plan covers preparation for evacuation, sheltering, and other actions to protect individuals near plants in the event of an accident.

The NRC, as well as other Federal and State regulatory agencies, reviews emergency plans to ensure that they provide reasonable assurance that adequate protective measures can and will be taken in the event of a radiological emergency.

Separate from this EA, the NRC staff is performing a safety assessment of FENOC's proposed changes to the emergency plan for PNPP. This safety review will be documented in a safety evaluation. The safety evaluation will determine whether, with the proposed changes to the emergency plan for PNPP, there continues to be reasonable assurance that adequate protective measures can and will be taken in the event of a radiological emergency at PNPP, in accordance with the standards of 10 CFR 50.47(b) and the requirements in appendix E to 10 CFR part 50.

The proposed action reflects changes in NRC guidance, as well as advances in technologies and best practices, that have occurred since NUREG-0654/FEMA-REP-1, Revision 1, was published in 1980 (ADAMS Accession Nos. ML14163A605 and ML17083A815). The application indicates that FENOC provided the State of Ohio with a copy of the license amendment request, and that the State of Ohio had no concerns.

Environmental Impacts of the Proposed Action

The proposed action consists mainly of changes related to the staffing levels and positions specified in the emergency plan for PNPP. The revisions include transfer of responsibilities, elimination of minimum staff positions, reduction in the number of RMTs and transfer of augmentation staff responsibility, addition of definitions for offsite surveys and onsite (out-of-plant) surveys, and other conforming administrative changes.

Regarding potential nonradiological environmental impacts, the proposed action would have no direct impacts on land use or water resources, including terrestrial and aquatic biota, as it involves no new construction or modification of plant operational systems. There would be no changes to the quality or quantity of nonradiological effluents and no changes to the plant's National Pollutant Discharge Elimination System permit would be needed. Changes in staffing levels could result in minor changes in vehicular traffic and associated air pollutant emissions, but no significant changes in ambient air quality would be expected from the proposed changes. In addition, there would be no noticeable effect on socioeconomic and environmental justice conditions in the region, and no potential to affect historic properties. Therefore, there would be no significant nonradiological environmental impacts associated with the proposed action.

Regarding potential radiological environmental impacts, the NRC staff finds that the proposed action would not increase the probability or consequences of any radiological accidents. Additionally, the proposed changes would have no direct radiological environmental impacts. There would be no change to the types or amounts of radioactive effluents that may be released and, therefore, no change in occupational or public radiation exposure. Moreover, no changes would be made to plant buildings or the site property. Therefore, there would be no significant radiological environmental impacts associated with the proposed action.

Environmental Impacts of the Alternatives to the Proposed Action

As an alternative to the proposed action, the NRC considered the denial of the proposed action (i.e., the “no-action” alternative). Denial of the license amendment request would result in no change in current environmental impacts. Accordingly, the environmental impacts of the proposed action and the no-action alternative would be similar.

Alternative Use of Resources

There are no unresolved conflicts concerning alternative uses of available resources under the proposed action.

Agencies and Persons Consulted

No additional agencies or persons were consulted regarding the environmental impact of the proposed action. However, in accordance with 10 CFR 50.91, the licensee provided copies of its application to the State of Ohio, and the NRC staff will consult with the State prior to issuance of the amendment.

III. Finding of No Significant Impact

The licensee has requested a license amendment pursuant to 10 CFR 50.54(q) to revise the PNPP Emergency Plan by transferring staff duties, eliminating staff positions, reducing and transferring staff responsibilities, adding definitions, and making other conforming administrative changes. The license amendment would allow FENOC to revise the PNPP Emergency Plan consisting mainly of changes related to staffing levels and positions specified in the emergency plan for PNPP. The revisions include transfer of responsibilities, elimination of minimum staff positions, reduction in the number of RMTs and transfer of augmentation staff responsibility, addition of definitions for offsite surveys and onsite (out-of-plant) surveys, and other conforming administrative changes.

The NRC is considering issuing the requested amendment. The proposed action would not significantly affect plant safety, would not have a significant adverse effect on the probability of an accident occurring, and would not have any significant radiological or nonradiological impacts. It also would not result in any changes to radioactive effluents or emissions to nuclear plant workers and members of the public or any changes to radiological and nonradiological impacts to the environment. The reason the environment would not be significantly affected is because the proposed changes would only result in minor changes in staffing levels and a very small change in air pollutant emissions associated with vehicular traffic.

Consistent with 10 CFR 51.21, the NRC prepared an EA for the proposed action, and this FONSI incorporates by reference the EA in Section II of this document. Therefore, the NRC concludes that the proposed action will not have a significant effect on the quality of the human environment. Accordingly, the NRC has determined there is no need to prepare an environmental impact statement for the proposed action.

As required by 10 CFR 51.32(a)(5), previous considerations regarding the environmental impacts of operating PNPP, Unit No. 1, in accordance with its operating license, are described in NUREG-0884, “Final Environmental Statement Related to the Operation of Perry Nuclear Power Plant, Units 1 and 2,” dated August 1982 (ADAMS Accession No. ML15134A060).

Dated at Rockville, Maryland, this 11th day of July 2019.
For the Nuclear Regulatory Commission.
Kimberly J. Green,
Senior Project Manager, Plant Licensing Branch III, Division of Operating Reactor Licensing, Office of Nuclear Reactor Regulation.

[FR Doc. 2019-15096 Filed 7-15-19; 8:45 am]

BILLING CODE 7590-01-P